DEPARTMENT OF HOUSING AND URBAN DEVELOPMENT

[Docket No. FR-5037-N-01]

Notice of Submission of Proposed Information Collection to OMB; Emergency Comment Request, Grant Application Standard Logic Model; Notice of Proposed Information Collection for Public Comment

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: February 1, 2006.

ADDRESSES: Interested persons are invited to submit comments regarding this proposal. Comments must be received within fourteen (14) days from the date of this Notice. Comments should refer to the proposal by name/or OMB approval number) and should be sent to: Mr. Maurice Champagn, HUD Desk Officer, Office of Management and Budget, New Executive Office Building, Washington, DC 20503; e-mail: Maurice_B._Champagn@omb.eop.gov; fax: 202-395-6974.

FOR FURTHER INFORMATION CONTACT: Lillian L. Deitzer, Reports Management Officer, AYO, Department of Housing and Urban Development, 451 Seventh Street, SW., Washington, DC 20410; e-mail Lillian_L_Deitzer@HUD.gov; telephone (202) 708-2374 or Ms. Barbara Dorf, Director, Office of Departmental Grants Management and Oversight, e-mail Barbara_Dorf@hud.gov, telephone (202) 708-0667. These are not a toll-free number. Copies of available documents submitted to OMB may be obtained from Ms. Deitzer.

SUPPLEMENTARY INFORMATION: This Notice informs the public that the U.S. Department of Housing and Urban Development (HUD) has submitted to OMB, for emergency processing, a proposed revision to the currently approved information collection for selecting applicants for all of HUD's Discretionary grant programs.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Grant Application Standard Logic Model.

Description of Information Collection: Applicants of HUD Federal Financial Assistance will be required to indicate intended results and impacts. Grant recipients will be required to report against their baseline performance standards. HUD's previously approved collection instrument has been revised. This revised information collection automates responses through a drop down table listing. This was done in response to customer concerns about the difficulty in putting information in the previously approved form. The revised collection adds an additional requirement for addressing a series of tailored management questions and a return on investment statement when reporting back to HUD. This process will replace various, current progress reporting requirements and reduce reporting burdens. It will also promote greater emphasis on performance and results in grant programs. The management questions are based on the © Carter-Richmond methodology that identifies key management and evaluation questions for HUD's programs. The following table identifies the ©Carter-Richmond generic questions and where the source data is found in the Logic Model.

© Carter-Richmond Methodology: ¹ Building Blocks for Effective Management
Management questions | Logic model columns for source data
1. How many clients are you serving? | Service/Activity/Output.
2. How many units were provided? | Service/Activity/Output.
3. Who are you serving? | Service/Activity/Output.
4. What services do you provide? | Service/Activity/Output.
5. What does it cost? | Service/Activity/Output.
6. What does it cost per service delivered? | Service/Activity/Output/Evaluation.
7. What happens to the “subjects” as a result of the service? | Outcome.
8. What does it cost per outcome? | Outcome and Evaluation.
9. What is the value of the outcome? | Outcome and Evaluation.
10. What is the return on investment? | Evaluation.
¹ The Carter-Richmond methodology is copyrighted and is provided to support the development of your grant application. Any other use is prohibited without prior written permission of The Center for Applied Management Practices, Inc., 3609 Gettysburg Road, Camp Hill, PA 17011, (717) 730-3705, www.appliedmgt.com.
² The subject can be a client or a unit, such as a building and is defined in its associated unit of service.

OMB Control Number: 2535-0114.

Agency Form Numbers: HUD-96010.

Members of Affected Public: Individuals, Not-for-profit institutions, State, Local or Tribal Government, Business or other for-profit.

Estimation of the total numbers of hours needed to prepare the information collection including number of respondents, frequency of responses, and hours of response: This information collection is estimated to total thirty minutes per submission. Of the estimated 11,000 grant applicant/recipients, approximately 4,400 report quarterly and 6,600 report annually. Total annual reporting burden is estimated to 12,100 hours.

Status of the Proposed Information Collection: Revised Collection.

Authority: The Paperwork Reduction Act of 1995, 44 U.S.C. Chapter 35, as amended.

Dated: January 12, 2006.
Lillian L. Deitzer,
Departmental Reports Management Officer, Office of the Chief Information Officer.

[FR Doc. E6-458 Filed 1-17-06; 8:45 am]

BILLING CODE 4210-27-P